FEDERAL COMMUNICATIONS COMMISSION

[DA 07-3871]

The Federal Communications Commission's Public Safety and Homeland Security Bureau Launches Disaster Information Reporting System

AGENCY: Federal Communications Commission.

ACTION: Notice.

SUMMARY: In the Public Notice, the Federal Communications Commission's (Commission's) Public Safety and Homeland Security Bureau (PSHSB) announces the launch of the newly designed and automated Disaster Information Reporting System (DIRS). DIRS is a voluntary, efficient, web-based system that communications providers can use to report communications infrastructure status and situational awareness information during times of crisis. This will better streamline the reporting process and enable communications providers to share network status information with the Commission quickly and efficiently.

DATES: The Commission launched DIRS on September 11, 2007.

ADDRESSES: Federal Communications Commission, 445 12th Street, SW., Room TW-A325, Washington, DC 20554.

FOR FURTHER INFORMATION CONTACT: Jeffery Goldthorp, Chief, Communications Systems Analysis Division, Public Safety and Homeland Security Bureau, Federal Communications Commission at (202) 418-1096 or Jeffery.Goldthorp@fcc.gov.

SUPPLEMENTARY INFORMATION: This is a summary of the PSHSB's action in DA 07-3871, released on September 11, 2007. The complete text of this document is available for inspection and copying during normal business hours in the FCC Reference Information Center, Portals II, 445 12th Street, SW., Room CY-A257, Washington, DC 20554. This document may also be purchased from the Commission's duplicating contractor, Best Copy and Printing, Inc., in person at 445 12th Street, SW., Room CY-B402, Washington, DC 20554, via telephone at (202) 488-5300, via facsimile at (202) 488-5563, or via e-mail at FCC@BCPIWEB.COM. Alternative formats (computer diskette, large print, audio cassette, and Braille) are available to persons with disabilities by sending an e-mail to FCC504@fcc.gov or calling the Consumer and Governmental Affairs Bureau at (202) 418-0530, TTY (202) 418-0432. This document is also available on the Commission's Web site at http://www.fcc.gov.

Synopsis of the Public Notice

The Commission's PSHSB launched a newly designed and automated Disaster Information Reporting System (DIRS) on September 11, 2007. DIRS is a voluntary, efficient, web-based system that communications companies, including wireless, wireline, broadcast, and cable providers, can use to report communications infrastructure status and situational awareness information during times of crisis. This will better streamline the reporting process and enable communications providers to share network status information with the Commission quickly and efficiently.

The creation and implementation of this new system builds on the Commission's longstanding commitment to promoting the safety of life and property through the use of wire and radio communication, as required by the Communications Act of 1934, as amended, and complements the efforts of the Department of Homeland Security's National Communications System (NCS) in support of NCS's role as the primary agency for Emergency Support Function-2 (ESF-2) (Communications) of the National Response Plan. Establishment of this database addresses many of the recommendations submitted by the Independent Panel Reviewing the Impact of Hurricane Katrina on Communications Networks regarding the collection of disaster-related outage and other situational awareness information.

DIRS includes data templates for different communications sectors (i.e., wireless, wireline, broadcast, and cable). Participating communications providers will initially log onto the system to input their emergency contact information. Once this is done, participating communications providers that serve areas affected by disasters will be able to voluntarily submit information regarding, inter alia, the status of their communications equipment, restoration efforts, power (i.e., whether they are using commercial power, generator or battery), and access to fuel.

Because the information that communications companies input to DIRS is sensitive, for national security and/or commercial reasons, DIRS filings shall be treated as presumptively confidential upon filing. DIRS filings voluntarily report weaknesses in and damage to the national communications infrastructure. The release of this sensitive information to the public could potentially facilitate terrorist targeting of critical infrastructure and key resources. Further, the DIRS filings contain internal confidential information that constitutes trade secrets and commercial or financial information. Public availability of these reports, which contain information the filers themselves do not routinely make public, could competitively harm the filers by revealing information about the types and deployment of their equipment and the traffic that flows across their networks. DIRS filings will, however, be shared with the NCS on a confidential basis.

On July 21, 2007, the Office of Management and Budget (OMB) approved the DIRS information collection under OMB Control Number 3060-1003. This OMB approval expires on July 31, 2010. As the Commission noted in its OMB submission, DIRS is a voluntary program, separate from the mandatory reporting requirements that apply to certain communications providers under part 4 of the Commission's rules, 47 CFR part 4.

The Commission requests that communications providers (wireline carriers, wireless carriers, broadcasters, and cable system operators) that choose to participate in DIRS provide contact information for any and all individuals in each company who would be providing information on the status of communications equipment in the event of a disaster. Contact information includes contact name, company name, phone number, cell phone number, Blackberry/pager number, and e-mail address. This information will be secured by the Commission and protected from public release. Communications providers can accomplish this by accessing DIRS at https://www.fcc.gov/nors/disaster/ and obtaining a User ID. Such providers can also access DIRS under e-filing on the Commission's main webpage or on the PSHSB Web page.

When this disaster data collection system is activated in response to a crisis, all contacts in DIRS will be sent an e-mail letting them know the disaster area and the communications providers that are requested to provide data on the status of their communications equipment.

Federal Communications Commission.
Derek K. Poarch,
Bureau Chief, Public Safety and Homeland Security Bureau.

[FR Doc. E7-18296 Filed 9-14-07; 8:45 am]

BILLING CODE 6712-01-P